FEDERAL MARITIME COMMISSION

[Petition No. P1-17]

Petition of Maersk Line A/S for an Exemption From 46 CFR 530.8; Notice of Filing and Request for Comments

Notice is hereby given that Maersk Line A/S (“Petitioner”), has petitioned the Commission pursuant to 46 U.S.C. 40103 and 46 CFR 502.76 ¹ of the Commission's Rules of Practice and Procedure, for an exemption from 46 CFR 530.8, to permit Petitioner to “apply service contract rates contained in new service contracts and amendments to existing service contracts retroactively to shipments received on or after June 30, 2017, for a period of up to twenty (20) days.”

¹ On December 22, 2016, 46 CFR 502.76 was redesignated 46 CFR 502.94.

Petitioner asserts that the “so-called Petya virus” severely impaired its information systems such that it “is not able to determine which service contracts and/or service contract rates are scheduled to expire at the end of June or in early July.” Because Petitioner is uncertain which customers to contact to “extend or renegotiate those contracts/rates,” it is requesting relief from service contract filing rules for 20 days. Petitioner states “[t]his time period should provide Maersk Line sufficient time to regain access to its service contract database and filing capabilities, to be able to identify expiring contracts/rates, and obtain agreements from shippers with regards to the disposition of their expiring contracts/rates.”

In order for the Commission to make a thorough evaluation of the exemption requested in the Petition, pursuant to 46 CFR 502.92, interested parties are requested to submit views or arguments in reply to the Petition no later than July 14, 2017. Replies shall be sent to the Secretary by email to Secretary@fmc.gov or by mail to Federal Maritime Commission, 800 North Capitol Street NW., Washington, DC 20573-0001, and replies shall be served on Dennis O'Brien, Regional Counsel, Maersk Transport and Logistics, by email to Dennis.A.Obrien@maersk.com, or by mail to 9300 Arrowpoint Boulevard, Charlotte, North Carolina 28273.

Non-confidential filings may be submitted in hard copy to the Secretary at the above address or by email as a PDF attachment to Secretary@fmc.gov. Confidential filings should not be filed by email. A confidential filing must be filed with the Secretary in hard copy only, and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the fling. Such public filing version shall exclude confidential materials, and shall indicate on the cover page and on each affected page “Confidential materials excluded.” Public versions of confidential filings may be submitted by email.

The Petition will be posted on the Commission's Web site at http://www.fmc.gov/P1-17. Replies filed in response to the Petition will also be posted on the Commission's Web site at this location.

Rachel E. Dickon,
Assistant Secretary.

[FR Doc. 2017-14437 Filed 7-10-17; 8:45 am]

BILLING CODE 6731-AA-P